NUCLEAR REGULATORY COMMISSION

Advisory Committee on Reactor Safeguards; Joint Meeting of the Subcommittees on Plant License Renewal and on Plant Operations; Notice of Meeting

The ACRS Subcommittees on Plant License Renewal and on Plant Operations will hold a joint meeting on September 21, 2005, Room T-2B3, 11545 Rockville Pike, Rockville, Maryland.

The entire meeting will be open to public attendance.

The agenda for the subject meeting shall be as follows:

Wednesday, September 21, 2005—8:30 a.m. until 5 p.m.

The purpose of this meeting is to gather information regarding the current status and condition of Browns Ferry Unit 1 in preparation for ACRS reviews of the license renewal application for Browns Ferry Units 1, 2, and 3, and the restart of Browns Ferry Unit 1. The Subcommittees will hear presentations by and hold discussions with representatives of the NRC staff, Tennessee Valley Authority, and other interested persons regarding this matter. The Subcommittees will gather information, analyze relevant issues and facts, and formulate proposed positions and actions, as appropriate, for deliberation by the full Committee.

Members of the public desiring to provide oral statements and/or written comments should notify the Designated Federal Official, Mr. Cayetano Santos (telephone 301/415-7270) five days prior to the meeting, if possible, so that appropriate arrangements can be made. Electronic recordings will be permitted.

Further information regarding this meeting can be obtained by contacting the Designated Federal Official between 7:30 a.m. and 4:15 p.m. (ET). Persons planning to attend this meeting are urged to contact the above named individual at least two working days prior to the meeting to be advised of any potential changes to the agenda.

Dated: September 8, 2005.
Michael L. Scott,
Branch Chief, ACRS/ACNW.

[FR Doc. E5-5021 Filed 9-14-05; 8:45 am]

BILLING CODE 7590-01-P